DEPARTMENT OF COMMERCE

National Oceanic and Atmospheric Administration

[RTID 0648-XE086]

New England Fishery Management Council; Public Meeting

AGENCY: National Marine Fisheries Service (NMFS), National Oceanic and Atmospheric Administration (NOAA), Commerce.

ACTION: Notice of public meeting.

SUMMARY: The New England Fishery Management Council (Council) is holding a hybrid meeting of its Scientific and Statistical Committee (SSC) to consider actions affecting New England fisheries in the exclusive economic zone (EEZ). Recommendations from this group will be brought to the full Council for formal consideration and action, if appropriate.

DATES: This meeting will be held on Tuesday, July 30 and Wednesday, July 31, 2024, beginning at 9 a.m.

ADDRESSES: This meeting will be held at the Hilton Garden Inn, 100 High Street, Portsmouth, NH 03801; telephone: (603) 431-1499.

Webinar Registration information: https://nefmc-org.zoom.us/meeting/register/tJUpceGsrz0uGNUPQ_3alPmYs5qFYQLf6uic.

Council address: New England Fishery Management Council, 50 Water Street, Mill 2, Newburyport, MA 01950

FOR FURTHER INFORMATION CONTACT: Cate O'Keefe, Executive Director, New England Fishery Management Council; telephone: (978) 465-0492.

SUPPLEMENTARY INFORMATION:

Agenda

The Scientific and Statistical Committee (SSC) will meet to review the information provided by the Council's Plan Development Teams, review stock assessment information where appropriate, and recommend the overfishing limits (OFL) and acceptable biological catches (ABC) for: Atlantic herring for fishing years (FY) 2025-2027. Four stocks of Atlantic cod for FY 2025-2027.* Georges Bank yellowtail flounder for FY 2025-2026. They will review a method developed by the Northeast Fisheries Science Center for apportioning the biomass of Georges Bank cod and haddock into the Eastern Georges Bank management area. Other business will be discussed as necessary. * Review of some cod stocks may be postponed pending the timing of assessments being final.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

The meetings are physically accessible to people with disabilities. Requests for sign language interpretation or other auxiliary aids should be directed to Cate O'Keefe, Executive Director, at (978) 465-0492, at least 5 days prior to the meeting date.

Authority: 16 U.S.C. 1801 et seq.

Dated: July 3, 2024.
Rey Israel Marquez,
Acting Deputy Director, Office of Sustainable Fisheries, National Marine Fisheries Service.

[FR Doc. 2024-15001 Filed 7-8-24; 8:45 am]

BILLING CODE 3510-22-P